DEPARTMENT OF COMMERCE

National Oceanic and Atmospheric Administration

50 CFR Part 622

[I.D. 021507B]

South Atlantic Fishery Management Council; Public Hearings

AGENCY: National Marine Fisheries Service (NMFS), National Oceanic and Atmospheric Administration (NOAA), Commerce.

ACTION: Notification of public hearings.

SUMMARY: The South Atlantic Fishery Management Council (Council) will convene a series of public hearings regarding Amendment 18 to the Fishery Management Plan for Coastal Migratory Pelagic Resources of the Gulf of Mexico and South Atlantic. Amendment 18 will modify the total allowable catch (TAC) for the Atlantic migratory group king mackerel and Spanish mackerel fisheries, and change the commercial trip limits for Spanish mackerel to reflect recent changes in the fishing year.

DATES: The public hearings will be held in March 2007. See SUPPLEMENTARY INFORMATION for the specific dates and times of the public hearings.

Written comments must be received in the Council office (see ADDRESSES) by close of business on April 10, 2007.

ADDRESSES: Written comments should be sent to Bob Mahood, Executive Director, South Atlantic Fishery Management Council, 4055 Faber Place Drive, Suite 201, North Charleston, SC 29405, or via email to MackerelAmendment18@safmc.net. Copies of the public hearing document are available from Kim Iverson at the address above or by calling 843-571-4366 or toll free at 866/SAFMC-10.

FOR FURTHER INFORMATION CONTACT: Kim Iverson, South Atlantic Fishery Management Council, 4055 Faber Place Drive, Suite 201, North Charleston, SC 29405; telephone: 843-571-4366; fax: 843-769-4520; email: kim.iverson@safmc.net.

SUPPLEMENTARY INFORMATION: The Council initiated a regulatory amendment in June 2006 to adjust the TAC for both Atlantic migratory group king and Spanish mackerel following an assessment and report reflecting the need to reduce the current TACs. The Council is proposing to reduce the current annual TAC for king mackerel from 10.0 million lb (4.5 million kg) to 7.1 million lb (3.2 million kg), and for Spanish mackerel from 7.04 million lb (3.19 million kg) to 6.7 million lb (3.0 million kg). Amendment 18 was changed from a regulatory amendment to a plan amendment in September 2006 to allow more flexibility for alternatives. While the title has changed, the alternatives and information contained in the plan amendment remain the same.

Public Hearing Dates and Locations

All hearings are scheduled to begin at 6 p.m.

March 12, 2007 - Hampton Inn St. Augustine Beach, 430 A1A Beach Boulevard, St. Augustine, FL 32080; phone 904/471-4000.

March 13, 2007 - Hutchinson Island Marriott, 555 N.E. Ocean Boulevard, Stuart, FL 34996; phone 772/225-3700.

March 14, 2007 - Sombrero Cay Club Resort, 19 Sombrero Boulevard, Marathon, FL 33050; phone 305/743-2250.

March 19, 2007 - Crystal Coast Civic Center, 3505 Arendell Street, Morehead City, NC 28557; phone 252/247-3883.

March 20, 2007 - Shell Island Resort, 2700 N. Lumina Avenue, Wrightsville Beach, NC 28480; phone 910/256-8696.

March 21, 2007 - Baywatch Resort, 2701 S. Ocean Boulevard, North Myrtle Beach, SC 29582; phone 843/272-4600.

March 27, 2007 - Hampton Inn, 678 Citadel Haven Drive, Charleston, SC 29414; phone 843/573-1200.

Note: A public hearing for Amendment 18 will also be held on March 6, 2007, at 6 p.m. in conjunction with the March 5-9, 2007 meeting of the Council at the Jekyll Island Club, 371 Riverview Drive, Jekyll Island, GA 31527. Information regarding the Council meeting and hearing will be published in an upcoming Federal Register notice.

Special Accommodations

These meetings are physically accessible to people with disabilities. Requests for sign language interpretation or other auxiliary aids should be directed to the Council office (see ADDRESSES) by March 9, 2007.

Authority: 16 U.S.C. 1801 et seq.

Dated: February 16, 2007.
James P. Burgess,
Acting Director, Office of Sustainable Fisheries, National Marine Fisheries Service.

[FR Doc. E7-3126 Filed 2-22-07; 8:45 am]

BILLING CODE 3510-22-S